DEPARTMENT OF TRANSPORTATION

Federal Aviation Administration

Notice of Passenger Facility Charge (PFC) Approvals and Disapprovals

AGENCY: Federal Aviation Administration (FAA), DOT.

ACTION: Monthly Notice of PFC Approvals and Disapprovals. In January 2000, there were six applications approved. Additionally, 10 approved amendments to previously approved applications are listed

SUMMARY: The FAA publishes a monthly notice, as appropriate, of PFC approvals and disapprovals under the provisions of the Aviation Safety and Capacity Expansion Act of 1990 (Title IX of the Omnibus Budget Reconciliation Act of 1990) (Pub. L. 101-508) and Part 158 of the Federal Aviation Regulations (14 CFR Part 158). This notice is published pursuant to paragraph d of § 158.29.

PFC Applications Approved

Public Agency: City of San Jose, California.

Application Number: 99-08-C-00-SJC.

Application Type: Impose and use a PFC.

PFC Level: $3.00.

Total PFC Revenue Approved in This Decision: $23,598,000.

Earliest Charge Effective Date: July 1, 2002.

Estimated Charge Expiration Date: September 1, 2003.

Class of Air Carriers Not Required to Collect PFC's: Air taxi/commercial operators filing FAA Form 1800-31.

Determination: Approved. Based on information submitted in the public agency's application, the FAA has determined that the approved class accounts for less than 1 percent of the total annual enplanements at San Jose International Airport.

Brief Description of Project Approved for Collection and Use: Interim Federal Inspection Services facility.

Decision Date: January 13, 2000.

FOR FURTHER INFORMATION CONTACT: Marlys Vanvervelde, San Francisco Airports District Office, (650) 876-2806.

Public Agency: County of Natrona, Casper, Wyoming.

Application Number: 99-04-C-00-CPR.

Application Type: Impose and use a PFC.

PFC Level: $3.00.

Total PFC Revenue Approved in This Decision: $471,251.

Earliest Charge Effective Date: October 1, 2004.

Estimated Charge Expiration Date: May 1, 2004.

Class of Air Carriers Not Required to Collect PFC's: None.

Brief Description of Project Approved for Collection and Use:

Rehabilitate runway 3/21.

Airport terminal building assessment.

Purchase of 20-foot runway sweeper.

Brief Description of Project Approved in Part for Collection and Use: Purchase of 14-foot loader.

Determination: Partially approved. The FAA has determined that certain requested attachments, in particular the hydraulic compactor, hydraulic breaker, forks, and rear quick coupler, are airport maintenance items and are not an allowable cost under paragraph 501 of FAA Order 5100.38A, Airport Improvement Program (AIP) Handbook (October 24, 1989). Therefore, the approved amount has been reduced from that requested due to the ineligible items.

Brief Description of Project Disapproved: Purchase of snow removal equipment.

Determination: Disapproved. The FAA has determined that the acquisition of replacement snow plow blades is a maintenance expense, associated with an expendable item, and is ineligible under paragraphs 501 and 565c of FA Order 5100.38A, AIP Handbook (October 24, 1989).

Decision Date: January 20, 2000.

FOR FURTHER INFORMATION CONTACT: Chris Schaffer, Denver Airports District Office, (303) 342-1258.

Public Agency: City of Rhinelander and County of Oneida, Rhinelander, Wisconsin.

Application Number: 00-06-C-00-RHI.

Application Type: Impose and use a PFC.

PFC Level: $3.00.

Total PFC Revenue Approved in This Decision: $335,056.

Earliest Charge Effective Date: March 1, 2000.

Estimated Charge Expiration Date: February 1, 2003.

Class of Air Carriers Not Required to Collect PFC's: Part 135 air taxi/commercial operators filing FAA Form 1800-31.

Determination: Approved. Based on information contained in the public agency's application, the FAA has determined that the approved class accounts for less than 1 percent of the total annual enplanements at Rhinelander-Oneida County Airport.

Brief Description of Project Approved for Collection and Use:

Runway 5/23 demolition.

Year 2000 compliance audit.

Airfield electrical improvements.

Terminal apron expansion.

PFC administration costs.

Decision Date: January 20, 2000.

FOR FURTHER INFORMATION CONTACT: Danial Millenacker, Minneapolis Airports District Office, (612) 713-4350.

Public Agency: Metropolitan Airports Commission, Minneapolis Minnesota.

Application Number: 00-05-C-00-MSP.

Application Type: Impose and use a PFC.

PFC Level: $3.00.

Total PFC Revenue Approved in This Decision: $106,873,838.

Earliest Charge Effective Date: August 1, 2000.

Estimated Charge Expiration Date: March 1, 2003.

Class of Air Carriers Not Required to Collect PFC's: Air taxi/commercial operators filing FAA Form 1800-31.

Determination: Approved. Based on information contained in the public agency's application, the FAA has determined that the approved class accounts for less than 1 percent of the total annual enplanements at Minneapolis-St. Paul International Airport.

Brief Description of Projects Approved for Collection and Use:

Runway 17 deicing pad site preparation.

Runway 30L deicing pad.

Runway 12R deicing pad.

Runway 17/35 site preparation.

Runway 4/22 reconstruction—segment 3.

Green concourse apron construction—phase 1.

Green concourse apron construction—phase 2.

Humphrey terminal development.

Inbound/outbound roadway realignment.

Northwest Drive improvements.

Runway 30L safety area improvements.

Decision Date: January 25, 2000.

FOR FURTHER INFORMATION CONTACT: Gordon Nelson, Minneapolis Airports District Office, (612) 713-4358.

Public Agency: City of Fayetteville, Arkansas.

Application Number: 99-03-C-00-FYV.

Application Type: Impose and use a PFC.

PFC Level: $3.00.

Total PFC Revenue Approved in This Decision: $960,303.

Earliest Charge Effective Date: April 1, 2000.

Estimated Charge Expiration Date: January 1, 2001.

Class of Air Carriers Not Required to Collect PFC's: None.

Brief Description of Projects Approved for Collection and Use:

Localizer-type directional aid with glide slope.

Reconstruct taxiways D, E, F, and segment TB-3 of taxiway B.

PFC administrative costs.

Decision Date: January 26, 2000.

FOR FURTHER INFORMATION CONTACT: Ben Guttery, Southwest Region Airports Division, (817) 222-5614.

Public Agency: Valdosta-Lowndes County Airport Authority, Valdosta, Georgia.

Application Number: 00-04-C-00-VLD.

Application Type: Impose and use a PFC.

PFC Level: $3.00.

Total PFC Revenue Approved in This Decision: $230,300.

Earliest Charge Effective Date: April 1, 2000.

Estimated Charge Expiration Date: January 1, 2002.

Class of Air Carriers Not Required to Collect PFC's: Unscheduled Part 121 charter carriers.

Determination: Approved. Based on information contained in the public agency's application, the FAA has determined that the approved class accounts for less than 1 percent of the total annual enplanements at Valdosta Regional Airport.

Brief Description of Projects Approved for Collection and Use:

Security fencing.

T-hanger taxiway.

Rehabilitate runway 17/35 (design only).

Disadvantaged business enterprise plan.

Drainage study.

Rehabilitate runway 17/35.

Brief Description of Project Disapproved: Terminal building.

Determination: Disapproved. The new terminal building had been previously approved for PFC collection under application number 92-01-I-00-VLD. The total eligible costs for the terminal were collected under this application and there are no new eligible costs associated with the terminal.

Decision Date: January 27, 2000.

FOR FURTHER INFORMATION CONTACT: Larry Clark, Atlanta Airports District Office, (404) 305-7144.

Amendments to PFC Approvals
Amendment No. City, State | Amendment Approved Date | Original Approved Net PFC Revenue | Amended Approved Net PFC Revenue | Original Estimated Charge Exp. Date | Amended Estimated Charge Exp. Date
93-01-C-02-CPR; Casper, WY. | 01/04/00 | $543,974 | $524,438 | 10/01/01 | 10/01/01
98-02-C-01-FYV; Fayetteville, AR. | 01/05/00 | 2,726,590 | 118,886 | 03/01/04 | 04/01/00
95-01-C-01-FYV; Fayetteville, AR. | 01/10/00 | 2,584,339 | 1,149,945 | 03/01/04 | 04/01/00
93-01-C-04-TYS; Knoxville, TN. | 01/12/00 | 4,829,227 | 4,881,882 | 06/01/98 | 06/01/98
97-04-U-01-TYS; Knoxville, TN. | 01/12/00 | NA | NA | 06/01/98 | 06/01/98
93-01-C-03-BGM; Binghamton, NY | 01/20/00 | 311,759 | 305,752 | 04/01/06 | 04/01/06
95-02-C-04-BGM; Binghamton, NY | 01/20/00 | 1,021,843 | 1,021,843 | 04/01/06 | 04/01/06
98-03-C-02-BGM; Binghamton, NY | 01/20/00 | 1,813,334 | 1,811,886 | 04/01/06 | 04/01/06
94-02-C-01-INL; International Falls, MN. | 01/24/00 | 243,537 | 280,066 | 03/01/00 | 07/01/00
97-02-C-02-DSM; Des Moines, IA. | 01/26/00 | 9,713,654 | 9,786,654 | 12/01/01 | 12/01/01

Issued in Washington, DC, on February 11, 2000.
Eric Gabler,
Manager, Passenger Facility Charge Branch.

[FR Doc. 00-4111 Filed 2-18-00; 8:45 am]

BILLING CODE 4910-13-M